DEPARTMENT OF TRANSPORTATION

Federal Aviation Administration

14 CFR Part 39

[Docket No. 2001-CE-29-AD]

RIN 2120-AA64

Airworthiness Directives; Dornier Luftfahrt GmbH Model 228-212 Airplanes

AGENCY: Federal Aviation Administration, DOT.

ACTION: Notice of proposed rulemaking (NPRM).

SUMMARY: This document proposes to adopt a new airworthiness directive (AD) that would apply to all Dornier Luftfahrt GmbH (Dornier) Model 228-212 airplanes that have a certain brake assembly installed. This proposed AD would require you to inspect the brake housing subassembly for cracks, nicks, or corrosion (referred to as damage). This proposed AD would also require you to replace damaged brake housing assemblies and modify the torque take-out cavity. This proposed AD is the result of mandatory continuing airworthiness information (MCAI) issued by the airworthiness authority for Germany. The actions specified by this proposed AD are intended to detect and correct damage to the brake housing assembly, which could result in failure of this assembly. Such failure could lead to loss of braking action on landing and possible loss of control of the airplane.

DATES: The Federal Aviation Administration (FAA) must receive any comments on this proposed rule on or before November 7, 2001.

ADDRESSES: Submit comments to FAA, Central Region, Office of the Regional Counsel, Attention: Rules Docket No. 2001-CE-29-AD, 901 Locust, Room 506, Kansas City, Missouri 64106. You may view any comments at this location between 8 a.m. and 4 p.m., Monday through Friday, except Federal holidays.

You may get service information that applies to this proposed AD from Dornier Luftfahrt GmbH, Customer Support, P.O. Box 1103, D-82230 Wessling, Federal Republic of Germany; telephone: (08153) 300; facsimile: (08153) 304463. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments to Docket No. 2001-CE-29-AD.” We will date stamp and mail the postcard back to you.

Discussion

What Events Have Caused This Proposed AD?

The Luftfahrt-Bundesamt (LBA), which is the airworthiness authority for Germany, recently notified FAA that an unsafe condition may exist on all Dornier Model 228-212 airplanes equipped with brake assembly part-number 5009850-1, 5009850-2, 5009850-3, or 5009850-4. The LBA reports one occurrence of failure of the right-hand main landing gear (MLG) brake housing subassembly on one of the above-referenced airplanes. Failure of the brake housing assembly resulted in total loss of braking power.

The brake manufacturer, Aircraft Braking Systems Corporation (ABSC), has developed a modification to the torque take-out cavity of the brake housing assembly. The incorporation of this modification on Dornier Model 228-212 airplanes would prevent surface damage from developing into fatigue damage.

What Are the Consequences if the Condition Is Not Corrected?

Damage to the brake housing assembly, if not detected and corrected, could result in failure of this assembly. Such failure could result in loss of braking action on landing and possible loss of control of the airplane.

Is There Service Information That Applies to This Subject?

Fairchild/Dornier has issued Dornier 228 Service Bulletin No. SB-228-236, dated January 11, 2001.

ABSC has issued Service Bulletin Do228-212-32-12, dated November 15, 2000, and Service Bulletin Do228-212-32-13, dated December 15, 2000.

What Are the Provisions of This Service Information?

The ABSC Service Bulletins include procedures for inspecting and modifying the brake housing assembilies as specified in the Fairchild/Dornier Service Bulletin.

What Action Did the LBA Take?

The LBA classified these service bulletins as mandatory and issued German AD Number 2001-164, dated June 14, 2001, in order to ensure the continued airworthiness of these airplanes in Germany.

Was This in Accordance With the Bilateral Airworthiness Agreement?

This airplane model is manufactured in Germany and is type certificated for operation in the United States under the provisions of section 21.29 of the Federal Aviation Regulations (14 CFR 21.29) and the applicable bilateral airworthiness agreement.

Pursuant to this bilateral airworthiness agreement, the LBA has kept FAA informed of the situation described above.

The FAA's Determination and an Explanation of the Provisions of This Proposed AD

What Has FAA Decided?

The FAA has examined the findings of the LBA; reviewed all available information, including the service information referenced above; and determined that:

—The unsafe condition referenced in this document exists or could develop on other Dornier Model 228-212 airplanes of the same type design;

—The actions specified in the previously-referenced service information should be accomplished on the affected airplanes; and

—AD action should be taken in order to correct this unsafe condition.

What Would This Proposed AD Require?

This proposed AD would require you to inspect the brake housing subassembly for cracks, nicks, or corrosion (referred to as damage), replace damaged brake housing assemblies, and modify the torque take-out cavity.

Cost Impact

How Many Airplanes Would This Proposed AD Impact?

We estimate that this proposed AD affects 1 airplane in the U.S. registry.

What Would Be the Cost Impact of This Proposed AD on Owners/Operators of the Affected Airplanes?

We estimate the following costs to accomplish the proposed inspection:

Labor cost | Parts cost | Total cost per airplane | Total cost on U.S. operators
10 workhours × $60 per hour = $600 | No parts required for the inspection. | $600 | $600

You would not need parts or special equipment to accomplish any necessary repairs after the proposed inspection. The time necessary to accomplish any repairs is included in the inspection labor cost.

We estimate the following costs to accomplish any necessary replacements that would be required based on the results of the proposed inspection. We have no way of determining the number of airplanes that may need such replacement.

Labor cost | Parts cost | Total cost per airplane
9 workhours × $60 per hour = $540. | $46 | $586

ABSC will provide labor reimbursement for the modification to the torque take-out cavity of the brake housing to the extent noted in Service Bulletin Do228-212-13, dated December 15, 2000.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Dornier Luftfahrt GMBH: Docket No. 2001-CE-29-AD

(a) What airplanes are affected by this AD? This AD affects Model 228-212 airplanes, all serial numbers, that are:

(1) certificated in any category; and

(2) equipped with brake assembly part-number 5009850-1, 5009850-2, 5009850-3, or 5009850-4.

(b) Who must comply with this AD? Anyone who wishes to operate any of the above airplanes must comply with this AD.

(c) What problem does this AD address? The actions specified in this AD are intended to detect and correct damage to the brake housing assembly, which could result in failure of this assembly. Such failure could lead to loss of braking action on landing and possible loss of control of the airplane.

(d) What actions must I accomplish to address this problem? To address this problem, you must accomplish the following:

Actions | Compliance | Procedures
(1) Inspect, using both visual and eddy current methods, the brake housing subassembly for damage (cracks, nicks, corrosion, etc.), and accomplish the following: | Inspect within the next 300 hours time-in-service (TIS) after the effective date of this AD. Repair or replace prior to further flight. | In accordance with Aircraft Braking Systems Corporation Service Bulletin Do228-212-32-13, dated December 15, 2000, and Aircraft Braking Systems Corporation Service Bulletin Service Bulletin Do228-212-32-12, dated November 15, 2000, as specified in Fairchild/Dornier Dornier 228 Service Bulletin SB-228-236, issued January 11, 2001.
(i) Replace the brake housing if damage is found in the torque take-out cavity in the area specified in the referenced service information; or
(ii) Repair the brake housing if damage is found on the walls of the torque take-out cavity and the width exceeds the maximum limit specified in the referenced service information.
(2) Modify the torque take-out cavity of the brake housing assembly. | Prior to further flight after the inspection required by paragraph (d)(1) of this AD, and thereafter prior to the installation of a brake housing assembly. | In accordance with Aircraft Braking Systems Corporation Service Bulletin Do228-212-32-13, dated December 15, 2000, and Aircraft Braking Systems Corporation Service Bulletin Service Bulletin Do228-212-32-12, dated November 15, 2000, as specified in Fairchild/Dornier Dornier 228 Service Bulletin SB-228-236, issued January 11, 2001.
(3) Do not install any brake housing assembly (or FAA-approved equivalent part number) unless it has been inspected as required in paragraph (d)(1) of this AD and modified as required in paragraph (d)(2) of this AD | As of the effective date of this AD. | Not applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) How do I get copies of the documents referenced in this AD? You may get copies of the documents referenced in this AD from Dornier Luftfahrt GmbH, Customer Support, P.O. Box 1103, D-82230 Wessling, Federal Republic of Germany; telephone: (08153) 300; facsimile: (08153) 304463. You may view these documents at FAA, Central Region, Office of the Regional Counsel, 901 Locust, Room 506, Kansas City, Missouri 64106.

Note 2: The subject of this AD is addressed in German AD Number 2001-164, dated June 14, 2001.

Issued in Kansas City, Missouri, on September 24, 2001.
Michael Gallagher,
Manager, Small Airplane Directorate, Aircraft Certification Service.

[FR Doc. 01-24560 Filed 10-1-01; 8:45 am]

BILLING CODE 4910-13-U